FEDERAL MARITIME COMMISSION

Ocean Transportation Intermediary License Reissuances

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR Part 515.

License No. | Name/address | Date reissued
001575F | AEC International, Inc., 11931 Seventh Street, Houston, TX 77072 | March 28, 2008.
017753NF | Associated Consolidators, Express dba A.C.E. Balikbayan, Boxes Direct, 1273 Industrial Parkway, #290, Hayward, CA 94544 | April 3, 2008.
013396N | Global Forwarding Ltd., Symal House, 423 Edgware Rd., London, NW9, OHU, United Kingdom | March 23, 2008.

Sandra L. Kusumoto,
Director, Bureau of Certification and Licensing.

[FR Doc. E8-13087 Filed 6-10-08; 8:45 am]

BILLING CODE 6730-01-P